DEPARTMENT OF JUSTICE

Notice of Lodging of Consent Decree Under the Clean Air Act (“CAA”)

In accordance with 28 CFR 50.7, notice is hereby given that on November 29, 2006, a proposed Consent Decree in United States and State of Illinois v. Smurfit Stone Container Enterprises, Inc., (“Smurfit”), Civil Action No. 06 C 6543, was lodged with the United States District Court for the Northern District of Illinois.

In a Complaint filed on the same day as the lodging of the proposed Consent Decree, the United States sought injunctive relief and civil penalties for violations of: (1) The Illinois State Implementation Plan (“SIP”) provisions governing emissions of volatile organic material from rotogravure and flexographic printing operations codified at 35 Ill. Admin. Code parts 205 and 218; (2) applicable National Emissions Standards for Hazardous Air Pollutants (“NESHAP”) for the printing and publishing industry, codified at 40 CFR Part 63, Subpart KK; (3) duty to provide information to EPA upon request pursuant to Section 114 of the CAA, 42 U.S.C. 7414; and (4) Smurfit's operating permit program requirements pursuant to Title V of the CAA, 42 U.S.C. 7661a-7661f. The violations alleged in the Complaint took place at Smurfit's printing facility located at 1128 East Tower Road, Schaumburg, Illinois (the “Facility”). On June 30, 2006, the Facility was acquired by Bluegrass Flexible Packaging Company, LLC (“Bluegrass”). Bluegrass has also joined the Consent Decree in which Bluegrass has accepted the jurisdiction of the Court in this case.

In the proposed Consent Decree, Smurfit and Bluegrass agree, jointly and severally to: (1) Install a regenerative thermal oxidizer to destroy volatile organic material by means of high temperature thermal oxidation to meet the Illinois SIP requirements for capture and destruction of volatile organic matter; (2) comply with the cap and trade requirements of the Illinois SIP by paying the Illinois Environmental Protection Agency (EPA) $151,440.36 for Smurfit's alleged emissions in excess of its allotment trading units; (3) comply with the applicable SIP requirements regarding volatile organic material; and (4) Pay $325,000 in civil penalties—half to the United States and the other half to the State of Illinois. The Consent Decree acknowledges that Smurfit has already installed the required regenerative thermal oxidizer as required by the Consent Decree.

The Department of Justice will receive for a period of thirty (30) days from the date of this publication comments relating to the proposed Consent Decree. Comments should be addressed to the Assistant Attorney General, Environment and Natural Resources Division, P.O. Box 7611, U.S. Department of Justice, Washington, DC 20044-7611, and should refer to United States and State of Illinois v. Smurfit Stone Container Enterprises, Inc., D.J. Ref. 90-5-2-1-08141.

The Consent Decree may be examined at the Office of the United States Attorney for the Northern District of Illinois, 219 South Dearborn Street, Chicago, Illinois 60604, and at U.S. EPA Region 5, 77 West Jackson Blvd., Chicago, IL 60604. During the public comment period the proposed Consent Decree may also be examined on the following Department of Justice Web site, http://www.usdoj.gov/enrd/Consent_Decrees.html. A copy of the proposed Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requiring a copy from the Consent Decree Library, please enclose a check in the amount of $8.25 (25 cents per page reproduction cost) payable to the U.S. Treasury or, if by e-mail or fax, forward a check in that amount to the Consent Decree Library at the stated address.

William D. Brighton,
Assistant Chief, Environmental Enforcement Section, Environment and Natural Resources Division.

[FR Doc. 06-9671 Filed 12-13-06; 8:45 am]

BILLING CODE 4410-15-M